DEPARTMENT OF TRANSPORTATION

Federal Highway Administration

23 Parts 771, 1420, and 1430

Federal Transit Administration

23 CFR Parts 1420 and 1430

49 CFR Parts 622 and 623

[FHWA Docket No. FHWA-99-5989]

FHWA RIN 2125-AE64; FTA RIN 2132-AA43

NEPA and Related Procedures for Transportation Decisionmaking, Protection of Public Parks, Wildlife and Waterfowl Refuges, and Historic Sites

AGENCIES: Federal Highway Administration (FHWA), Federal Transit Administration (FTA), DOT.

ACTION: Notice of proposed rulemaking (NPRM); extension of comment period.

SUMMARY: This document extends this rulemaking's comment period until September 23, 2000. This is in response to numerous letters received by the FHWA and the FTA from State Departments of Transportation, transit operators, and metropolitan planning organizations requesting an extension of the comment period from the closing date. These groups based their requests on the time required to assess the impact of these rules on the nation's highway and transit systems and provide meaningful comments.

DATES: Comments to the NPRM should be received no later than September 23, 2000. Late comments will be considered to the extent practicable.

ADDRESSES: All signed, written comments must refer to the docket number appearing at the top of this document and must be submitted to the Docket Clerk, U.S. DOT Dockets, Room PL-401, 400 Seventh Street, SW., Washington, DC 20590-0001. All comments received will be available for examination at the above address between 9 a.m. and 5 p.m., e.t., Monday through Friday, except Federal holidays. To receive notification of receipt of comments you must include a self-addressed, stamped envelope or postcard.

FOR FURTHER INFORMATION CONTACT: For the FHWA: Mr. Fed Skaer, (202) 366-2058, Office of Planning and Environment, HEPE, or Mr. L. Harold Aikens, (202) 366-0791, Office of the Chief Counsel, HCC-31. For the FTA: Mr. Joseph Ossi, (202) 366-0096, Office of Planning, TPL-22, or Mr. Scott Biehl (202) 366-0952, Office of the Chief Counsel, TCC-30. Both agencies are located at 400 Seventh Street, SW., Washington, DC 20590. Office hours for the FHWA are from 7:45 a.m. to 4:15 p.m., e.t., and for the FTA are from 8:30 a.m. to 5 p.m., e.t., Monday through Friday, except Federal holidays.

SUPPLEMENTARY INFORMATION: On May 25, 2000 (65 FR 33960), the FHWA and the FTA published an NPRM proposing to update and revise their National Environmental Policy Act of 1969 (NEPA) (42 U.S.C. 4321 et seq.) implementing regulation for projects funded or approved by the FHWA and the FTA. The current regulation was issued in 1987 and experience since that time, as well as changes in the legislation, most recently by the Transportation Equity act for the 21st Century (TEA-21) (Pub. L. 105-178, 112 Stat. 107), call for an updated approach to the implementation of NEPA for FHWA and FTA projects and actions. Under this proposed rulemaking, the FHWA/FTA regulation for implementing NEPA would be revised to further emphasize using the NEPA process to facilitate effective and timely decisionmaking.

The FHWA and FTA have received requests from the American Association of State Highway and Transportation Officials, the American Public Transportation Association, the Association of Metropolitan Planning Organizations, and several State Departments of Transportation to extend the comment period. These groups voiced concerns that the proposed rule was extremely complex and that 90 days was insufficient time to assess the impact of the proposed rules and provide meaningful comments. We agree that more time for an in-depth analysis of the NPRM would be beneficial to the FHWA and the FTA in this rulemaking. For these reasons, the FHWA and the FTA find good cause to extend this NPRM comment period closing date by 30 days.

Authority: 23 U.S.C. 134, 135 and 315; 42 U.S.C. 7410 et seq.; 49 U.S.C. 5303-5309; 49 CFR 1.48 and 1.51.

Issued on: June 30, 2000.
Kenneth R. Wykle,
Federal Highway Administrator.
Nuria I. Fernandez,
Federal Transit Deputy Acting Administrator.

[FR Doc. 00-17159 Filed 7-6-00; 8:45 am]

BILLING CODE 4910-22-M